SOCIAL SECURITY ADMINISTRATION

[Docket No. SSA-2015-0061]

Social Security Ruling 16-4p; Titles II and XVI: Using Genetic Test Results To Evaluate Disability

AGENCY: Social Security Administration.

ACTION: Notice of Social Security Ruling; correction.

SUMMARY: The Social Security Administration published a document in the Federal Register of April 13, 2016, in FR Doc. 2016-08467, on page 21949, in the first column; remove the reference to SSR 96-7p, Titles II and XVI: Evaluation of Symptoms in Disability Claims: Assessing the Credibility of an Individual's Statements; add the reference SSR 16-3p, Titles II and XVI: Evaluation of Symptoms in Disability Claims.

Helen J. Droddy,
Lead Regulations Writer, Office of Regulations and Reports Clearance, Social Security Administration.

[FR Doc. 2016-09184 Filed 4-20-16; 8:45 am]

BILLING CODE 4191-02-P